DEPARTMENT OF THE INTERIOR

Fish and Wildlife Service

[FWS-R8-ES-2010-N074; 1112-0000-81440-F2]

Endangered and Threatened Wildlife and Plants; Permit, Santa Cruz County, CA

AGENCY: U.S. Fish and Wildlife Service, Interior.

ACTION: Notice of availability.

SUMMARY: We, the U.S. Fish and Wildlife Service (Service), have received an application from Todd and Lisa Mansfield (applicants) for an incidental take permit under the Endangered Species Act of 1973, as amended (Act). We are considering issuing a permit that would authorize the applicants' take of the federally endangered Mount Hermon June beetle (Polyphylla barbata) incidental to otherwise lawful activities that would result in the permanent loss of 483 square feet of habitat for the species in Scotts Valley, Santa Cruz County, California. We invite comments from the public on the application, which includes a Habitat Conservation Plan (HCP) that fully describes the proposed project and measures the applicants would undertake to minimize and mitigate anticipated take of the species. We also invite comments on our preliminary determination that the HCP qualifies as a “low-effect” plan, eligible for a categorical exclusion under the National Environmental Policy Act (NEPA) of 1969, as amended. We explain the basis for this determination in our draft Environmental Action Statement and associated Low-Effect Screening Form, both of which are also available for review.

DATES: To ensure consideration, please send your written comments by May 20, 2010.

ADDRESSES: You may download a copy of the permit application, plan, and related documents on the Internet at http://www.fws.gov/ventura/, or you may request documents by U.S. mail or phone (see below). Please address written comments to Diane K. Noda, Field Supervisor, Ventura Fish and Wildlife Office, U.S. Fish and Wildlife Service, 2493 Portola Road, Suite B, Ventura, CA 93003. You may alternatively send comments by facsimile to (805) 644-3958.

FOR FURTHER INFORMATION CONTACT: Jen Lechuga, HCP Coordinator, at the Ventura address above, or by telephone at (805) 644-1766, extension 224.

SUPPLEMENTARY INFORMATION:

Background

The Mount Hermon June beetle was listed as endangered on January 24, 1997 (62 FR 3616). Section 9 of the Act (16 U.S.C. 1531 et seq.) and our implementing Federal regulations in the Code of Federal Regulations (CFR) at 50 part CFR 17 prohibit the “take” of fish or wildlife species listed as endangered or threatened. Take of listed fish or wildlife is defined under the Act as “to harass, harm, pursue, hunt, shoot, wound, kill, trap, capture, or collect, or to attempt to engage in any such conduct” (16 U.S.C. 1532). However, under limited circumstances, we issue permits to authorize incidental take (i.e., take that is incidental to, and not the purpose of, the carrying out of an otherwise lawful activity). Regulations governing incidental take permits for threatened and endangered species are at 50 CFR 17.32 and 17.22, respectively. The Act's take prohibitions do not apply to federally listed plants on private lands unless such take would violate State law. In addition to meeting other criteria, an incidental take permit's proposed actions must not jeopardize the existence of federally listed fish, wildlife, or plants.

The applicants propose the construction of an addition to an existing single-family residence within a 0.30 acre parcel (APN 021-052-21) located at 9 Locke Way in Scotts Valley, Santa Cruz County, California. The parcel contains Zayante sand soils and vegetation consisting of landscaping and ruderal species. Habitat on this parcel is presumed to be occupied by the Mount Hermon June beetle as the species is known to occur approximately 550 feet to the west of the property.

The proposed project would result in permanent impacts to a total of 483 square feet of habitat for the Mount Hermon June beetle. The applicants propose to implement the following measures to minimize and mitigate for the loss of Mount Hermon June beetle habitat within the permit area: (1) Applicants will purchase 483 square feet of conservation credits at the Ben Lomond Sandhills Preserve of the Zayante Sandhills Conservation Bank operated by PCO, LLC; (2) a qualified biologist will oversee construction and provide worker training on the Mount Hermon June beetle and requirements of the HCP; (3) temporary fencing will be installed to demarcate the impact area from the protected habitat area at the property; (4) any life stages of the Mount Hermon June beetle will be captured and relocated if one is observed in an area that would be impacted; (5) dust control measures will be implemented to reduce impacts to the Mount Hermon June beetle and its habitat; (6) approximately 408 square feet of degraded habitat adjacent to the project area will be revegetated with native Sandhills plant species; and (7) all exposed soils will be covered with impermeable material if construction occurs during the species flight season.

In the proposed HCP, the applicants consider three alternatives to the taking of Mount Hermon June beetle. The No Action alternative would maintain current conditions, the project would not be implemented, and an incidental take permit application would not be submitted to the Service. The second alternative would involve a redesign of the project. The project would be reduced in scale under this alternative; however, this alternative was rejected as the project would not meet the applicants' need for additional living space. The third alternative is the proposed action which includes issuing an incidental take permit to the applicants, who would then implement the HCP.

We are requesting comments on our preliminary determination that the applicants' proposal will have a minor or neglible effect on the species covered in the plan, and that the plan qualifies as a “low-effect” HCP as defined by our Habitat Conservation Planning Handbook (November 1996). We base our determination that the HCP qualifies as a low-effect plan on the following three criteria: (1) Implementation of the HCP would result in minor or negligible effects on federally listed, proposed, and candidate species and their habitats; (2) implementation of the HCP would result in minor or negligible effects on other environmental values or resources; and (3) impacts of the HCP, considered together with the impacts of other past, present, and reasonably foreseeable similarly situated projects, would not result, over time, in cumulative effects to the environmental values or resources that would be considered significant. As more fully explained in our Environmental Action Statement and associated Low-Effect Screening Form, the applicants' proposed HCP qualifies as a “low-effect” HCP for the following reasons:

(1) Approval of the HCP would result in minor or negligible effects on the Mount Hermon June beetle and its habitat. We do not anticipate significant direct or cumulative effects to the Mount Hermon June beetle resulting from the proposed project;

(2) Approval of the HCP would not have adverse effects on unique geographic, historic, or cultural sites, or involve unique or unknown environmental risks;

(3) Approval of the HCP would not result in any cumulative or growth-inducing impacts and would not result in significant adverse effects on public health or safety;

(4) The project does not require compliance with Executive Order 11988 (Floodplain Management), Executive Order 11990 (Protection of Wetlands), or the Fish and Wildlife Coordination Act, nor does it threaten to violate a Federal, State, local, or tribal law or requirement imposed for the protection of the environment; and

(5) Approval of the HCP would not establish a precedent for future actions or represent a decision in principle about future actions with potentially significant environmental effects.

We, therefore, have made the preliminary determination that the approval of the HCP and incidental take permit application qualifies for a categorical exclusion under the National Environmental Policy Act (NEPA; 42 U.S.C. 4321 et seq.), as provided by the Department of the Interior Manual (516 DM 2 Appendix 1 and 516 DM 8). Based on our review of public comments that we receive in response to this notice, we may revise this preliminary determination.

Next Steps

We will evaluate the HCP and comments we receive to determine whether the permit application meets the requirements of section 10(a) of the Act (16 U.S.C. 1531 et seq.). If we determine that the application meets these requirements, we will issue the permit for incidental take of the Mount Hermon June beetle. We will also evaluate whether issuance of a section 10(a)(1)(B) permit would comply with section 7 of the Act by conducting an intra-Service section 7 consultation. We will use the results of this consultation, in combination with the above findings, in our final analysis to determine whether or not to issue a permit. If the requirements are met, we will issue the permit to the applicants.

Public Comments

If you wish to comment on the permit application, plan, and associated documents, you may submit comments by any one of the methods in ADDRESSES.

Public Availability of Comments

Before including your address, phone number, e-mail address, or other personal identifying information in your comments, you should be aware that your entire comment—including your personal identifying information—may be made publicly available at any time. If you wish us to consider withholding this information you must state this prominently at the beginning of your comments. In addition, you must provide a rationale demonstrating and documenting that disclosure would constitute a clearly unwarranted invasion of privacy. While you can ask us in your comment to withhold your personal identifying information from public review, we cannot guarantee that we will be able to do so. All submissions from organizations or businesses, and from individuals identifying themselves as representatives or officials of organizations or businesses, are available for public inspection in their entirety.

Authority: We provide this notice under section 10 of the Act (U.S.C. 1531 et seq.) and NEPA regulations (40 CFR 1506.6).

Dated: April 14, 2010.
Diane K. Noda,
Field Supervisor, Ventura Fish and Wildlife Office, Ventura, California.

[FR Doc. 2010-9047 Filed 4-19-10; 8:45 am]

BILLING CODE 4310-55-P